DEPARTMENT OF AGRICULTURE

Forest Service

Proposed North-South Project, San Bernardino National Forest, California EIR/EIS

AGENCY: Forest Service, USDA.

ACTION: Revised Notice of Intent to extend scoping for the joint Environmental Impact Report/Environmental Impact Statement for the North-South Project.

SUMMARY: The San Bernardino National Forest (Forest Service), together with the California Public Utilities Commission (CPUC), published a Notice of Intent in the Federal Register on October 2, 2015 for the joint Environmental Impact Report and Environmental Impact Statement (EIR/EIS) for the Southern California Gas Company (SoCal Gas) and San Diego Gas and Electric (SDG&E) proposed North-South Project. This notice extends the comment period to January18, 2016.

DATES: All scoping comments must be received by January 18, 2016. The draft environmental impact statement is expected June 2016 and the final environmental impact statement is expected December 2016.

ADDRESSES: You may submit comments to Eric Chiang, California Public Utilities Commission, and Jody Noiron, Forest Supervisor, San Bernardino National Forest by any of the following methods:

Email: North-South@ene.com.

Mail: Public Scoping Comments, RE: North-South Project, 505 Sansome Street, Suite 300, San Francisco, CA 94111.

Fax: (415)-398-5326.

FOR FURTHER INFORMATION CONTACT: Information can be requested by leaving a voice message at (855) 520-6799 (toll free), or by checking the project Web site at http://www.cpuc.ca.gov/Environment/info/ene/n-s/northsouth.html.

Individuals who use telecommunication devices for the deaf (TDD) may call the Federal Information Relay Service (FIRS) at 1-800-877-8339 between 8 a.m. and 8 p.m., Eastern Time, Monday through Friday.

SUPPLEMENTARY INFORMATION: Scoping for the proposed North-South project began October 2nd 2015 with the publication of the Notice of Intent (NOI), followed by the Notice of Preparation (NOP) on October 8th 2015. Both the NOI and the NOP are available on the project Web site listed above.

The Forest Service and CPUC held a series of public meetings between October 27th and October 29th 2015. During the public scoping meetings there was concern about the noticing for this project and the lack of detailed route information. In response to that concern, additional information requested at the meetings has been posted on the project Web site and additional comments will be accepted until January 18, 2016.

This notice is also to inform agencies, organizations, and the public that the meeting sign-in sheets and written comments that were submitted during the public scoping meetings held on October 27, 28, and 29 in San Bernardino, Hesperia, and Moreno Valley have been lost. All of the comments previously received via email, mail, or oral comment at the public scoping meetings have been posted to the project Web site to provide agencies, organizations, and the public an opportunity to verify that their comment was received. It is not necessary to re-submit those comments. Any written comment submitted during one of the public meetings should be resubmitted by January 18, 2016. New comments will also be accepted through January 18, 2016.

Individuals or organizations who would like to be added to the project mailing list may send an email or fax to the address/numbers listed above, or call (855) 520-6799 (toll free).

It is important that reviewers provide their comments at such times and in such a way that they are useful to the CPUC and Forest Service preparation of the EIR/EIS. Therefore, comments should be provided prior to the close of the extended comment period and should clearly articulate the reviewer's concerns and contentions. Comments received during scoping, including names and addresses of those who comment, will be part of the public record for this proposed project. Comments submitted anonymously will be accepted and considered; however, anonymous comments will not provide the Forest Service with the ability to provide the respondent with subsequent environmental documents and will not provide the respondent standing to participate in subsequent administrative or judicial review of the Forest Service decision. This project will follow the predecisional administrative review process pursuant to 36 CFR 218, Subparts A and B.

Dated: December 15, 2015.
Jody Noiron,
Forest Supervisor, San Bernardino National Forest, USDA Forest Service.

[FR Doc. 2015-32263 Filed 12-22-15; 8:45 am]

BILLING CODE 3410-11-P